FEDERAL ENERGY REGULATORY COMMISSION

[Docket No. ER01-2104-000, et al.]

Maclaren Energy, Inc., et al.; Electric Rate and Corporate Regulation Filings

May 30, 2001.

Take notice that the following filings have been made with the Commission:

1. Maclaren Energy, Inc.

[Docket No. ER01-2104-000]

Take notice that on May 24, 2001, Maclaren Energy, Inc. tendered for filing, pursuant to section 205 of the Federal Power Act, and Part 35 of the Commission's regulations, a Petition for authorization to make sales of electric capacity and energy, including certain ancillary services, at market-based rates and for related waivers and blanket authorizations.

Comment date: June 14, 2001, in accordance with Standard Paragraph E at the end of this notice.

2. Allegheny Energy Supply Conemaugh, LLC and Allegheny Energy Supply Company, LLC

[Docket No. EC01-104-000]

Take notice that on May 23, 2001, Allegheny Energy Supply Conemaugh, LLC (Conemaugh) and Allegheny Energy Supply Company, LLC (AE Supply), filed with the Federal Energy Regulatory Commission an application pursuant to Section 203 of the Federal Power Act for authorization of a disposition of jurisdictional facilities whereby Conemaugh will become a direct subsidiary of AE Supply, its affiliate.

Comment date: June 13, 2001, in accordance with Standard Paragraph E at the end of this notice.

3. Puget Sound Energy, Inc.

[Docket No. ER01-2108-000]

Take notice that on May 24, 2001, Puget Sound Energy, Inc., as Transmission Provider, tendered for filing a service agreement for Firm Point-To-Point Transmission Service and a service agreement for Non-Firm Point-To-Point Transmission Service with State of Nevada, Colorado River Commission (Nevada), as Transmission Customer. A copy of the filing was served upon Nevada.

Comment date: June 14, 2001, in accordance with Standard Paragraph E at the end of this notice.

4. South Carolina Electric & Gas Company

[Docket No. ER01-2109-000]

Take notice that on May 24, 2001, South Carolina Electric & Gas Company (SCE&G) tendered for filing a service agreement establishing Florida Power Corporation as a customer under the terms of SCE&G's Negotiated Market Sales Tariff. SCE&G requests an effective date of one day subsequent to the date of filing.

Accordingly, SCE&G requests waiver of the Commission's notice requirements. Copies of this filing were served upon Florida Power Corporation and the South Carolina Public Service Commission.

Comment date: June 14, 2001, in accordance with Standard Paragraph E at the end of this notice.

5. South Carolina Electric & Gas Company

[Docket No. ER01-2110-000]

Take notice that on May 24, 2001, South Carolina Electric & Gas Company (SCE&G) tendered for filing a service agreement establishing Mirant Americas Energy Marketing, LP as a customer under the terms of SCE&G's Negotiated Market Sales Tariff.

SCE&G requests an effective date of one day subsequent to the date of filing. Accordingly, SCE&G requests waiver of the Commission's notice requirements. Copies of this filing were served upon Mirant Americas Energy Marketing, LP and the South Carolina Public Service Commission.

Comment date: June 14, 2001, in accordance with Standard Paragraph E at the end of this notice.

6. Allegheny Energy Service Corporation, on behalf of Allegheny Energy Supply Company, LLC (AE Supply)

[Docket No. ER01-2111-000]

Take notice that on May 24, 2001, Allegheny Energy Service Corporation on behalf of Allegheny Energy Supply Company, LLC (AE Supply), tendered for filing First Revised Rate Schedule FERC No. 4 (First Revised Schedule) with West Penn Power Company dba Allegheny Power in order for Allegheny Power to continue to supply Provider of Last Resort Service to its Pennsylvania customers. AE Supply has requested a waiver of notice to make the First Revised Schedule effective on January 1, 2001.

Copies of the filing have been provided to the customer and to the Pennsylvania Public Utility Commission.

Comment date: June 14, 2001, in accordance with Standard Paragraph E at the end of this notice.

7. Mountainview Power Company

[Docket No. ER01-2112-000]

Take notice that on May 24, 2001, Mountainview Power Company (Mountainview) tendered for filing amendments to Mountainview's electric rate schedule No. 1 to reflect its pending affiliation with AES Corp. and its franchised public utility subsidiaries. Mountainview requests waiver of any notice requirements to the extent required.

Comment date: June 14, 2001, in accordance with Standard Paragraph E at the end of this notice.

8. Boston Edison Company

[Docket No. ER99-35-003]

Take notice that on April 26, 2001, Boston Edison Company tendered for filing its First Revised Rate Schedule FERC No. 169 in compliance with the Commission's order issued March 27, 2001 in this proceeding.

Comment date: June 14, 2001, in accordance with Standard Paragraph E at the end of this notice.

9. New York State Electric & Gas Corporation

[Docket No. ER01-2113-000]

Take notice that on May 24, 2001 New York State Electric & Gas Corporation (NYSEG) tendered for filing pursuant to section 205 of the Federal Power Act and section 35 of the Federal Energy Regulatory Commission's (FERC or Commission) Regulations, a May 21, 2001 Facilities Agreement with Otsego Electric Cooperative, Inc. (Otsego). This Agreement provides for NYSEG to install a tap of its transmission system in order to provide increased reliability to Otsego. Additionally, Otsego will pay NYSEG's annual charges for routine operation, maintenance, general expenses, and taxes (O&M).

This rate filing is made pursuant to Paragraph 5.1 of the Facilities Agreement. The annual charges for routine operation and maintenance and general expenses, as well as revenue and property taxes are based on data taken from NYSEG's Annual Report to the Federal Energy Regulatory Commission (FERC Form 1) for the twelve month period ending December 31, 1999. The facilities charge is levied on the cost of the tap facility constructed and owned by NYSEG to connect its 46 kV transmission lines to Otsego's transmission system.

NYSEG requests an effective date of June 24, 2001 and therefore asks for waiver of the Commission's sixty (60) day notice requirement.

Copies of the filing were served upon the Chief Executive Officer, Otsego Electric Cooperative, Inc. And the New York State Public Service Commission.

Comment date: June 14, 2001, in accordance with Standard Paragraph E at the end of this notice.

10. Southern Company Services, Inc.

[Docket No. ER01-2114-000]

Take notice that on May 24, 2001, Southern Company Services, Inc. (SCS), acting on behalf of Alabama Power Company, Georgia Power Company, Gulf Power Company, Mississippi Power Company, and Savannah Electric and Power Company (collectively referred to as Southern Company), tendered for filing two (2) umbrella agreements for short-term firm point-to-point transmission service between Southern Company and Tenaska Power Services Company and Calpine Energy Services, L.P. under the Open Access Transmission Tariff of Southern Company (FERC Electric Tariff, Fourth Revised Volume No. 5).

Comment date: June 14, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14062 Filed 6-4-01; 8:45 am]

BILLING CODE 6717-01-P